DEPARTMENT OF STATE

[Public Notice: 11091]

Designation of Nikolay Nikolayevich Trushchalov as a Specially Designated Global Terrorist

Acting under the authority of and in accordance with section 1(a)(ii)(B) of Executive Order 13224 of September 23, 2001, as amended by Executive Order 13268 of July 2, 2002, Executive Order 13284 of January 23, 2003, and Executive Order 13886 of September 9, 2019, I hereby determine that the person known as Nikolay Nikolayevich Trushchalov, also known as Mykola Mykolayovych Trushchalov, also known as Nikolaj Nikolaevich Trushhalov, also known as Nicholas Truschalov, also known as Nikolay Trushchalov, also known as Nicholas Trushchalov, is a leader of Russian Imperial Movement, a group whose property and interests in property are concurrently blocked pursuant to a determination by the Secretary of State pursuant to Executive Order 13224.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: March 27, 2020.
Michael R. Pompeo,
Secretary of State.

[FR Doc. 2020-07858 Filed 4-13-20; 8:45 am]

BILLING CODE 4710-AD-P